DEPARTMENT OF ENERGY

Federal Energy Regulatory Commission

[Project No. 13800-000]

Osprey II, LLC; Notice of Preliminary Permit Application Accepted for Filing and Soliciting Comments, Motions To Intervene, and Competing Applications

October 19, 2010.

On June 28, 2010, Osprey II, LLC filed an application for a preliminary permit, pursuant to section 4(f) of the Federal Power Act (FPA), proposing to study the feasibility of the 649 Water Street Project to be located on the Cobbosseecontee Stream, in Kennebec County, Maine. The sole purpose of a preliminary permit, if issued, is to grant the permit holder priority to file a license application during the permit term. A preliminary permit does not authorize the permit holder to perform any land-disturbing activities or otherwise enter upon lands or waters owned by others without the owners' express permission.

The proposed project would consist of: (1) A new intake structure with trash racks; (2) a new 6-foot-diameter, 1,900-foot-long buried concrete penstock; (3) a new approximately 400-square-foot powerhouse containing two new turbines and generators with a total installed capacity of 1.5 megawatts;(4) a new tailrace; (5) a new 7.2 or 12.47-kilovolt transmission line connecting to an existing distribution line immediately adjacent to the proposed powerhouse; and (6) appurtenant facilities. The project would have an estimated annual generation of 8,760 megawatt-hours.

Applicant Contact: Hoon Won, 275 River Road, P.O. Box 202, Woolwich, ME 04579; (203) 340-2517.

FERC Contact: Brandon Cherry, (202) 502-8328.

Deadline for filing comments, motions to intervene, competing applications (without notices of intent), or notices of intent to file competing applications: 60 Days from the issuance of this notice. Competing applications and notices of intent must meet the requirements of 18 CFR 4.36. Comments, motions to intervene, notices of intent, and competing applications may be filed electronically via the Internet. See 18 CFR 385.2001(a)(1)(iii) and the instructions on the Commission's Web site at http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13800) in the docket number field to access the document. For assistance, contact FERC Online Support.

Kimberly D. Bose,
Secretary.

[FR Doc. 2010-26991 Filed 10-25-10; 8:45 am]

BILLING CODE 6717-01-P